DEPARTMENT OF THE INTERIOR

Bureau of Reclamation

Draft Environmental Impact Statement/Environmental Impact Report and Notice of Public Meetings for the Joint Operations Center Relocation Project, Sacramento County, CA

AGENCY: Bureau of Reclamation, Interior.

ACTION: Notice of availability and public meetings.

SUMMARY: The Bureau of Reclamation (Reclamation) and the California Department of Water Resources (DWR) have made available for public review and comment the joint draft environmental impact statement/environmental impact report (Draft EIS/EIR) for the Joint Operations Center (JOC) Relocation Project.

The proposed new JOC would provide the special needs, essential services, and requisite office space for the combined occupancy of Reclamation, DWR, and the National Weather Service (NWS) that are lacking at the existing Interim JOC on El Camino. Special needs are defined as two control centers, a flood operations center, backup power supplies, primary and backup communication systems, intense computer infrastructure, and physical and cyber security systems. The new JOC also must meet State essential service criteria, described further below.

DATES: Submit written comments on the Draft EIS/EIR on or before November 7, 2011.

Two public meetings are scheduled with DWR and Reclamation staff. Oral or written comments will be received at these meetings regarding the project's environmental effects. The meetings will be held on September 22, 2011 from 2 to 4 p.m. and from 6 to 8 p.m. in Sacramento.

ADDRESSES: Submit written comments on the Draft EIS/EIR to Mr. Doug Kleinsmith, Division of Environmental Affairs, Bureau of Reclamation, 2800 Cottage Way, Sacramento, CA 95825. E-mail electronic comments to dkleinsmith@usbr.gov.

The public meetings will be held at the Sacramento State Aquatics Center, 1901 Hazel Avenue, Gold River, CA 95670.

To request a compact disc of the Draft EIS/EIR, please contact Mr. Doug Kleinsmith as indicated above, or call 916-978-5034. The Draft EIS/EIR may be viewed at Reclamation's Web site at http://www.usbr.gov/mp/cvo/joc.html. See Supplementary Information section for locations where copies of the Draft EIS/EIR are available for public review.

FOR FURTHER INFORMATION CONTACT: Mr. Doug Kleinsmith, Natural Resources Specialist, at 916-978-5034, or e-mail at dkleinsmith@usbr.gov; or Mr. John Engstrom, DWR Program Manager, at 916-651-8745, or e-mail at engstrom@water.ca.gov.

SUPPLEMENTARY INFORMATION: The new JOC would accommodate approximately 600 employees and be approximately 200,000 square feet. The preliminary design concepts being considered in the Draft EIS/EIR are one three-story building or two two-story buildings. The new JOC would occupy approximately 16 acres of land, including access roads and parking lots.

The criteria used by Reclamation, DWR, NWS, and the California Department of General Services to identify alternative JOC locations require that the site:

• Be along or adjacent to a major traffic thoroughfare and within an approximately 25-minute drive time from downtown Sacramento (DWR headquarters);

• Be outside of the designated 200-year floodplain;

• Maintain a secure perimeter;

• Have a lower risk of incompatible adjacent development;

• Allow line-of-sight for specialized communications systems and equipment, as well as redundant communication systems;

• Have availability of reliable and redundant power service;

• Have access to public transportation such as bus service and/or light rail.

Copies of the Draft EIS/EIR are available for public review at the following locations:

• Bureau of Reclamation, Regional Library, 2800 Cottage Way, Sacramento, CA 95825-1898, 916-978-5593.

• California Department of Water Resources, Division of Management Services, 1416 Ninth Street, Room 354, Sacramento, CA 95814.

• Rancho Cordova Public Library, 9845 Folsom Boulevard, Sacramento, CA 95827.

• Folsom Public Library, Georgia Murray Building, 411 Stafford Street, Folsom, CA 95630.

Special Assistance for Public Meetings

If special assistance is required to participate in the public meetings, please contact Mr. Doug Kleinsmith at 916-978-5034, TDD 916-978-5608, or via e-mail at dkleinsmith@usbr.gov. Please notify Mr. Kleinsmith as far in advance as possible to enable Reclamation to secure the needed services. If a request cannot be honored, the requestor will be notified. A telephone device for the hearing impaired (TDD) is available at 916-978-5608.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: August 2, 2011.
Pablo R. Arroyave,
Deputy Regional Director, Mid-Pacific Region.

[FR Doc. 2011-22787 Filed 9-7-11; 8:45 am]

BILLING CODE 4310-MN-P